DEPARTMENT OF DEFENSE

Department of the Army; Corps of Engineers

Intent To Prepare a Draft Environmental Impact Statement for Mississippi Coastal Improvements Program, Hancock, Harrison, and Jackson Counties, MS

AGENCY: Department of the Army, U.S. Corps of Engineers, DOD.

ACTION: Notice of intent.

SUMMARY: The Mobile District, U.S. Army Corps of Engineers (Corps), intends to prepare a Draft Environmental Impact Statement (DEIS) to address the potential impacts associated with actions to comprehensively address hurricane and storm damage reduction, prevention of saltwater intrusion, preservation of fish and wildlife, prevention of erosion, and other related water resource purposes in coastal Mississippi. These actions are related to the consequences of hurricanes in the Gulf of Mexico in 2005. The Corps will forward recommendations to Congress authorized by the Department of Defense Appropriations Act, 2006 (Pub. L. 109-148) dated December 30, 2005. The EIS will be used as a basis for ensuring compliance with the National Environmental Policy Act (NEPA).

ADDRESSES: Questions about the proposed action and the DEIS should be addressed to Dr. Susan Ivester Rees, Planning and Environmental Division, Mobile District, U.S. Army Corps of Engineers, P.O. Box 2288, Mobile, AL 36628-0001.

FOR FURTHER INFORMATION CONTACT: Dr. Susan Ivester Rees, (251) 694-4141 or e-mail at susan.i.rees@sam.usace.army.mil.

SUPPLEMENTARY INFORMATION: 1. Hurricane Katrina made landfall in Mississippi on August 29,2005 causing catastrophic damage to lives, property, and natural resources throughout coastal Mississippi. In response, the U.S. Congress has directed the Secretary of the Army through the Corps to conduct an analysis and design for comprehensive improvements or modifications to existing improvements in the coastal area of Mississippi in the interest of hurricane and storm damage reduction, prevention of saltwater intrusion, preservation of fish and wildlife, prevention of erosion, and other related water resources purposes. Further, the Corps was directed to provide interim recommendations for near term improvements by June 30, 2006, with final recommendations provided by December 30, 2007. This activity has been named the Mississippi Coastal Improvements Program (MsCIP) and the required interim recommendations for near term improvements have been submitted through Corps Headquarters to the Assistant Secretary of the Army for submission to Congress. Environmental impacts associated with implementation of 15 identified near term improvements were addressed in an Environmental Assessment and a Finding of No Significant Impact was signed to Mobile District Commander, Colonel Peter F. Taylor, Jr., on June 29, 2006.

2. The EIS will address potential impacts associated with MsCIP proposed actions as part of the development of the comprehensive plan of improvements to provide increased levels of protection within the coastal area of Mississippi as directed by Congress. Alternatives to be considered in the DEIS will include a comprehensive array of measures to promote the recovery of coastal Mississippi from the hurricanes of 2005 and to provide for a reduction of future damages to the maximum extent practicable. The EIS will evaluate multiple natural and engineered alternatives to provide various measures for various levels of protection for the Mississippi mainland coast. Development of this overall damage reduction system will involve identifying potential “Lines of Defense” moving from offshore to nearshore, shoreline, and along existing elevated features inland, to effectively reduce damage from large hurricane and storm events. This will require analysis of the barrier islands, nearshore features such as rubble and movable wall breakwaters, beachfront measures such as dunes, berms, and seawalls, coastal roadways and beach front property barriers such as elevation of roadways and property, and various other inland features such as installation of levees, elevated highway-topped levee systems, and surge protection gates, for potential inclusion in the overall damage reduction system. Additionally, consideration of “non-structural measures”, such as development of a “Probable Maximum Hurricane Inundation Boundary” or other maximum event planning boundaries will serve to identify hurricane and storm damage reduction planning features. Other alternatives to be considered include restoration of storm damaged habitats such as coastal marshes, beaches, forests, oyster reefs, and submerged aquatic vegetation in Mississippi Sound; restoration of historical water flows to coastal watersheds including freshwater diversion from Louisiana; and watershed based drainage modifications for flood damage reduction. The DEIS will identify, screen, evaluate, prioritize, and ultimately optimize an array of alternatives.

Combinations of the alternatives will be used to develop recommendations for cost effective measures to reduce hurricane and storm damages, interior flooding damages, and provide environmental benefits while fully considering the environmental consequences of the recommended actions. It is anticipated that alternatives will be developed during scoping and evaluated during development of the DEIS. Combinations of the alternatives will be used to maximize benefits while reducing impacts.

3. Scoping: a. The Corps invites full public participation to promote open communication on the issues surrounding the proposal. All Federal, State, and local agencies, and other persons or organizations that have an interest are urged to participate in the NEPA scoping process. In order to develop near-term recommendations for the interim report, the Corps met with local government officials, Federal, State, and local agencies, and interested members of the public to discuss first hand, impacts of the storm, ongoing recovery efforts, conditions on the coast, and present and future needs and opportunities for improvements. A facilitated two-step public involvement process was used that included ten workshop opportunities (2 in each coastal county and 2 web casts) held between April 7 and May 4, 2006, and a Web site was maintained as a repository of information and a vehicle to allow public input while providing public information during the project planning period. With this public input, the Corps began development of a conceptual comprehensive plan of action that will serve as the basis for development of an overall balanced natural and engineered solution for hurricane and storm damage reduction. The Corps anticipates future public meetings to gain further public input regarding information gathered from ongoing modeling efforts to collaboratively identify significant issues, associated risks, present and future needs, and opportunities in development of the comprehensive plan. A Web site will be established and used to disseminate information, receive public input, and facilitate participation by persons interested in development of the comprehensive plan including those still displaced as a result of Hurricane Katrina.

b. The DEIS will analyze potential social, economic, and environmental impacts and benefits associated with proposed projects and alternatives. Specifically, the following major issues will be analyzed in the DEIS: Hydrologic and hydraulic regimes, threatened and endangered species, essential fish habitat and other marine habitat, air quality, cultural resources, parks and protected lands, recreation, watersheds, wetlands, transportation systems, alternatives, secondary and cumulative impacts, socioeconomic impacts including effects on children, minorities, and economically disadvantaged groups per Executive Order 12898 (Environmental Justice) and Executive Order 13045 (Protection of Children).

c. The Corps will serve as the lead Federal agency during preparation of the DEIS. The following agencies will be invited to participate as cooperating agencies: U.S. Environmental Protection Agency; U.S. Department of Interior—Fish and Wildlife Service, National Park Service, U.S. Geological Survey, U.S. Department of Transportation—Federal Highway Administration; U.S. Department of Commerce—National Marine Fisheries Service; U.S. Department of Homeland Security—Federal Emergency Management Agency; Mississippi Department of Marine Resources and Department of Environmental Quality, and Mississippi Department of Archives and History. Participation from other agencies, interest groups, and individual citizens is being encouraged and sought.

5. The first scoping meeting is expected to be held in mid-September in Biloxi, MS.

6. It is anticipated that the DEIS will be made available for public review in April 2007.

Curtis M. Flakes,
Chief, Planning and Environmental Division.

[FR Doc. 06-6794 Filed 8-8-06; 8:45 am]

BILLING CODE 3710-CR-M